DEPARTMENT OF COMMERCE

National Oceanic and Atmospheric Administration

RIN 0648-XD555

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee to consider actions affecting New England fisheries in the exclusive economic zone (EEZ). Recommendations from this group will be brought to the full Council for formal consideration and action, if appropriate.

DATES: This meeting will be held on Tuesday, November 4, 2014 at 9:30 a.m.

ADDRESSES:

Meeting address: The meeting will be held at the Holiday Inn, 300 Woodbury Avenue, Portsmouth, NH 03801; telephone: (603) 431-8000; fax: (603) 501-3733.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The committee will receive a report from the November 3, 2014 Herring Advisory Panel (AP) meeting and consider the Herring AP recommendations. They will also review updated information about the industry-based river herring bycatch avoidance program (MA DMF/SMAST/SFC) and develop recommendations. Additionally, the committee will review and discuss information related to consideration of adding river herring and shad as stocks in the Atlantic herring fishery and develop recommendations. They will also discuss possible upcoming herring-related management actions and develop recommendations for the Council to consider regarding Atlantic herring management priorities for 2015. The committee plans to review and discuss options under consideration in the NMFS-led omnibus Industry-Funded Monitoring Amendment to address observer coverage on Atlantic herring vessels and develop recommendations. The committee will discuss other business as necessary.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 14, 2014.
Tracey L. Thompson,
Acting Deputy Director, Office of Sustainable Fisheries, National Marine Fisheries Service.

[FR Doc. 2014-24708 Filed 10-16-14; 8:45 am]

BILLING CODE 3510-22-P